DEPARTMENT OF COMMERCE

Federal Trade Commission

Public Workshop: Alternative Dispute Resolution for Consumer Transactions in the Borderless Online Marketplace

AGENCY: International Trade Administration, Department of Commerce; Federal Trade Commission.

ACTION: Notice Announcing Dates and Location of Workshop and Extending Deadline for Public Comments.

SUMMARY: The United States Department of Commerce (the “Department”) and the Federal Trade Commission (the “FTC”) have (1) set their public workshop on alternative dispute resolution (“ADR”) for online consumer transactions (announced in 65 FR 7831 (Feb. 16, 2000)) for June 6-7, 2000, in the Department of Commerce Main Auditorium; and (2) extended the deadline for receipt of comments to April 19, 2000.

DATES AND LOCATION: The deadline for written comments has been extended to April 19, 2000. The workshop will be held June 6 and 7, 2000 in the Department of Commerce, Main Auditorium, 1401 Constitution Avenue, NW, Washington, DC 20239.

ADDRESSES: Mail written comments to Secretary Federal Trade Commission, Room H-159, 600 Pennsylvania Avenue, NW, Washington, DC 20580.

SUBMISSION OF DOCUMENTS: Comments should be captioned “Alternative Dispute Resolution for Consumer Transactions in the Borderless Online Marketplace.” To enable prompt review and public access, paper submissions should include three hard copies and a version on diskette in ASCII, WordPerfect (please specify version), or Microsoft Word (please specify version) format. Diskettes should be labeled with the name of the party and the name and version of the word processing program used to create the document. As an alternative to paper submissions, email comments to: adr@ftc.gov. Messages to that address will receive a reply in acknowledgment. Comments submitted in electronic form should be in ASCII, WordPerfect (please specify version), or Microsoft Word (please specify version) format.

Written comments will be available for public inspection in accordance with the Freedom of Information Act, 5 U.S.C. 552 and Commission regulations, 16 CFR Part 4.9 on normal business days between the hours of 8:30 a.m. and 5:00 p.m. at 600 Pennsylvania Avenue, NW, Washington, DC 20580. The Department and the FTC will make this notice, and, to the extent possible, all papers or comments received in response to this notice available to the public through the Internet at: http://www.ecommerce.gov/adr.

FOR FURTHER INFORMATION CONTACT: A workshop agenda will be published closer to the date of the workshop. For questions about the workshop, please contact either Kate Rodriguez, International Trade Administration, phone (202) 482-2145; email: kate rodriguez@ita.doc.gov or Maneesha Mithal, Federal Trade Commission, phone: (202) 326-2771; email: mmithal@ftc.gov. All materials relating to the workshop can also be found at http://www.ecommerce.gov/ad.

By direction of the Commission.
Donald S. Clark
Secretary.
Barbara S. Wellbery,
Counsellor to the Under Secretary for Electronic Commerce International Trade Administration, Department of Commerce.

[FR Doc. 00-8425 Filed 4-5-00; 8:45 am]

BILLING CODE 6750-01-M